DEPARTMENT OF ENERGY

Federal Energy Regulatory Commission

Notice of Technical Conference

| Docket No.
Alabama Power Company | ER10-2881-014
Southern Power Company | ER10-2882-014
Mississippi Power Company | ER10-2883-014
Georgia Power Company | ER10-2884-014
Gulf Power Company | ER10-2885-014
Oleander Power Project, Limited Partnership | ER10-2641-014
Southern Company—Florida LLC | ER10-2663-014
Southern Turner Cimarron I, LLC | ER10-2886-014
Spectrum Nevada Solar, LLC | ER13-1101-009
Campo Verde Solar, LLC | ER13-1541-008
Macho Springs Solar, LLC | ER14-787-002 EL15-39-000

Take notice that the Federal Energy Regulatory Commission (Commission) will convene a staff-led technical conference in the above-referenced proceedings on May 23, 2016. The conference will begin at 9:00 a.m. (Eastern Time). The conference will be held in the Commission Meeting Room at the headquarters of the Commission, 888 First Street NE., Washington, DC 20426. The technical conference may be attended by one or more Commissioners.

The purpose of this conference is to discuss select issues related to the market-based rate authorization of the above-captioned entities. The conference will explore potential ways to improve the energy auction currently serving as tailored mitigation or whether there are possible alternative forms of mitigation. Attached is an agenda for the conference. This technical conference is not intended to address other issues relevant to the above-captioned entities' updated market power analysis.¹

¹ Other issues will be addressed in a future Commission order.

If attendees would like to file written responses to the questions in the attached agenda prior to the conference to facilitate the discussion, the Commission invites such written responses, with a deadline of May 18, 2016. The Commission will accept comments following the conference, with a deadline of June 6, 2016.²

² The written responses and comments should be filed in the above-captioned dockets.

There is no fee for attendance. In-person attendees should allow time to pass through building security procedures before the start time of the technical conference. Pre-registration is encouraged though not required. Attendees may register in advance at the following Web page: https://www.ferc.gov/whats-new/registration/05-23-16-form.asp.

The conference will be transcribed and webcast. Transcripts will be available immediately for a fee from Ace Reporting (202-347-3700). A link to the webcast of this event will be available in the Commission Calendar of Events at www.ferc.gov. The Capitol Connection provides technical support for the webcasts and offers the option of listening to the conferences via phone-bridge for a fee. For additional information, visit www.CapitolConnection.org or call (703) 993-3100.

Commission conferences are accessible under section 508 of the Rehabilitation Act of 1973. For accessibility accommodations please send an email to accessibility@ferc.gov or call toll free 1-866-208-3372 (voice) or 202-208-8659 (TTY), or send a fax to 202-208-2106 with the required accommodations.

For more information about this technical conference, please contact Lauren Campbell at Lauren.Campbell@ferc.gov or (202) 502-6642. For information related to logistics, please contact Sarah McKinley at Sarah.Mckinley@ferc.gov or (202) 502-8368.

Dated: May 4, 2016.
Kimberly D. Bose,
Secretary.

[FR Doc. 2016-10968 Filed 5-9-16; 8:45 am]

BILLING CODE 6717-01-P